FEDERAL ELECTION COMMISSION

Sunshine Act Meeting Notices

Date AND Time: Thursday, May 3, 2007, at 10 a.m.

Place: 999 E Street, NW., Washington, DC (Ninth Floor).

Status: This Meeting will be Open to the Public.

Items to be Discussed:

Correction and Approval of Minutes.

Advisory Opinion 2007-05: Erik Iverson by counsel, Donald F. McGahn, II.

Advisory Opinion 2007-06: Libertarian Party of Indiana by Todd Singer, Treasurer.

Notice of Proposed Rulemaking on Hybrid Ads.

Management and Administrative Matters.

Person to Contact for Information: Mr. Robert Biersack, Press Officer, Telephone: (202) 694-1220.

Mary W. Dove,
Secretary of the Commission.

[FR Doc. 07-2138 Filed 4-26-07; 2:57 pm]

BILLING CODE 6715-01-M